DEPARTMENT OF JUSTICE

Notice of Lodging of Proposed Modifications of Consent Decree Under the Clean Water Act

On November 22, 2021, the Department of Justice lodged proposed modifications to a Consent Decree with the United States District Court for the Eastern District of Virginia in United States and the Commonwealth of Virginia v. Hampton Roads Sanitation District, Civil Case No. 2:09-cv-481 (E.D. Va.).

The original Consent Decree was entered in February, 2010, and resolved civil claims under the Clean Water Act relating to the discharge of pollutants to navigable waters in the Tidewater region of southeast Virginia. The Consent Decree included wet weather capacity-related measures ensuring that the regional sanitary sewer system and the Defendant's sewage treatment plants have adequate capacity to convey and treat wet weather sewer flows within the Hampton Roads region. In addition to the wet weather capacity-related measures required by the Consent Decree, HRSD has numerous other regional environmental obligations and initiatives which also further the CWA's objective of protecting the region's waters from pollution.

The parties to the Consent Decree have agreed to certain modifications set forth in the Fifth Amendment to the Decree. The Fifth Amendment builds upon the previous amendments to the Consent Decree to provide for the phased implementation of the Defendant's proposed Regional Wet Water Management Plan (concurrently with an Aquifer Replenishment Program), and make conforming amendments to monitoring, assessment, and reporting requirements. It also resolves certain stipulated penalties and streamlines the termination requirements of the Consent Decree.

The publication of this notice opens a period for public comment on the proposed modifications to the Consent Decree. Comments should be addressed to the Assistant Attorney General, Environment and Natural Resources Division, and should refer to United States and the Commonwealth of Virginia v. Hampton Roads Sanitation District, Civil Case No. 2:09-cv-481 D.J. Ref. No. 90-5-1-1-09125. All comments must be submitted no later than thirty (30) days after the publication date of this notice. Comments may be submitted by email or by mail:

To submit comments: | Send them to:
By email | pubcomment-ees.enrd@usdoj.gov.
By mail | Assistant Attorney General, U.S. DOJ—ENRD, P.O. Box 7611, Washington, DC 20044-7611.

During the public comment period, the proposed amendments to the Consent Decree may be examined and downloaded at this Justice Department website: https://www.justice.gov/enrd/consent-decrees. We will provide a paper copy of the proposed amendments upon written request and payment of reproduction costs. Please mail your request and payment to: Consent Decree Library, U.S. DOJ—ENRD, P.O. Box 7611, Washington, DC 20044-7611.

Please enclose a check or money order for $4.25 (25 cents per page reproduction cost) payable to the United States Treasury.

Jeffrey Sands,
Assistant Section Chief, Environmental Enforcement Section, Environment and Natural Resources Division.

[FR Doc. 2021-25861 Filed 11-26-21; 8:45 am]

BILLING CODE 4410-15-P